FEDERAL COMMUNICATIONS COMMISSION

Information Collections Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 28, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-1135.

Title: Rules Authorizing the Operation of Low Power Auxiliary Stations (Including Wireless Microphones).

Form Number: N/A.

Type of Review: Extension of a currently approved collection.

Respondents: Business or other for-profit, not-for-profit institutions and state, local or tribal government.

Number of Respondents and Responses: 5,100 respondents; 127,500 responses.

Estimated Time per Response: .25 hours (15 minutes).

Frequency of Response: Third party disclosure requirements (disclosure and labeling requirements).

Obligation to Respond: Mandatory. Statutory authority for this information collection is contained in 47 U.S.C. sections 151, 152, 154(i), 154(j), 301, 302(a), 303, 304, 307, 308, 309, 316, 332, 336 and 337 of the Communications Act of 1934, as amended.

Total Annual Burden: 31,875 hours.

Total Annual Cost: $1,625,000.

Privacy Act Impact Assessment: N/A.

Nature and Extent of Confidentiality: There is no need for confidentiality since these are third party disclosure and labeling requirements.

Needs and Uses: The Commission will submit this expiring information collection during this comment period to obtain the full three year clearance from the Office of Management and Budget (OMB). The Commission is requesting approval for an extension (no change in the third party disclosure and labeling requirements). There are no changes to the Commission's previous burden estimates. The point-of-sale disclosure requirement is necessary for a successful transition of wireless microphones out of the 700 MHz band, and to address concerns regarding the lack of consumer awareness of the Commission's rules to best ensure the operation of wireless microphones in the core TV spectrum in conformance with the rules. The Commission anticipates that some wireless microphone users that previously operated in the 700 MHz band will have to purchase or lease new equipment capable of operating in the core TV spectrum. The point-of-sale disclosure requirement will help these consumers make an educated decision as they obtain new microphones, and it will help them operate in the core TV spectrum without causing harmful interference to other services in the spectrum. Further, a label on 700 MHz band wireless microphones bound for export will help to ensure that these wireless microphones are not made available for use in the United States, in contravention of our efforts to remove them from the 700 MHz band.

OMB Control Number: 3060-1181.

Title: Study Area boundary Maps Reported in Esri Shapefile Format, DA 12-1777.

Form Number: N/A.

Type of Review: Extension of a currently approved collection.

Respondents: Business or other for-profit entities.

Number of Respondents: 1,443 respondents; 1,443 responses.

Estimated Time per Response: 26 hours.

Frequency of Response: On occasion and biennial reporting requirements.

Obligation to Respond: Mandatory. Statutory authority for this information collection is contained in 47 U.S.C. section 254(b) of the Communications Act of 1934, as amended.

Total Annual Burden: 7,924 hours.

Total Annual Cost: $705,935.

Privacy Impact Assessment: N/A.

Nature and Extent of Confidentiality: No questions of a confidential nature are asked.

Needs and Uses: The Commission will submit this expiring information collection to the Office of Management and Budget (OMB) after this comment period to obtain the three year clearance from them.

The Commission requires all incumbent local exchange carriers (ILECs) to file shapefile maps of their service territories in a state (study area) and allows state public utility commissions to file voluntarily such data on the behalf of ILECs. Shapefiles are a commonly used, digitized, geographic information system (GIS) format. Accurate and accessible maps are essential to the legitimate distribution of universal service support to rural, high cost carriers. After the shapefiles are uploaded into a web interface provided by the Commission, each ILEC or state commission must certify the accuracy of its study area maps. ILECs or state commissions also must submit updated shapefile maps if the study area boundaries change, and must recertify the accuracy of the map every two years.

OMB Control Number: 3060-0975.

Title: Sections 68.105 and 1.4000, Promotion of Competitive Networks in Local Telecommunications Markets Multiple Tenant Environments (MTEs).

Form Number: N/A.

Type of Review: Extension of a currently approved collection.

Respondents: Business or other for-profit entities, not-for-profit institutions, Federal Government, and state, local or tribal government.

Number of Respondents: 7,367 respondents; 7,367 responses.

Estimated Time per Response: 26.3109814 hours.

Frequency of Response: On occasion reporting requirement and third party disclosure requirement.

Obligation to Respond: Required to obtain or retain benefits. Statutory authority for this information collection is contained in 47 U.S.C. sections 151 and 224 of the Communications Act of 1934, as amended.

Total Annual Burden: 193,833 hours.

Total Annual Cost: N/A.

Privacy Impact Assessment: N/A.

Nature and Extent of Confidentiality: There is no need for confidentiality.

Needs and Uses: The Commission will submit this expiring information collection after this comment period to obtain the full, three year clearance from the Office of Management and Budget (OMB). The Commission is requesting approval for an extension (no change in the reporting and/or third party disclosure requirements). The Commission is reporting a 451 hour decrease in burden which is due to adjustments over time because requests for location information would have already been made at most buildings.

This collection involves information regarding the location of the demarcation point, antennas placed on subscriber premises, and the state of the market. In an October 2001 Order (FCC 00-366), the Commission adopted the following:

(1) Prohibited carriers from entering into contracts that restrict or effectively restrict a property owner's ability to permit entry by competing carriers;

(2) established procedures to facilitate moving the demarcation point to the minimum point of entry (“MPOE”) at the building owner's request, and requires incumbent local exchange carriers (LECs) to timely disclose the location of existing demarcation points where they are not located at the MPOE;

(3) determined that, under section 224 of the Communications Act of 1934, as amended, utilities, including LECs, must afford telecommunications carriers and cable service providers reasonable and nondiscriminatory access to conduits and rights-of-way located in customer buildings and campuses, to the extent such conduits and rights-of-way are owned or controlled by the utility; and

(4) extended to antennas that receive and transmit telecommunications and other fixed wireless signals the existing prohibition of restrictions that impair the installation, maintenance or use of certain video antennas on property within the exclusive use or control of the antenna user, where the user has a direct or indirect ownership or leasehold interest in the property.

Federal Communications Commission.
Marlene H. Dortch,
Secretary.

[FR Doc. 2013-06892 Filed 3-25-13; 8:45 am]

BILLING CODE 6712-01-P